DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Public Comment Period for the Waquoit Bay, Massachusetts National Estuarine Research Reserve Management Plan revision.

SUMMARY: Notice is hereby given that the Estuarine Reserves Division, Office of Ocean and Coastal Resource Management, National Ocean Service, National Oceanic and Atmospheric Administration, U.S. Department of Commerce is announcing a thirty day public comment period for the Waquoit Bay, Massachusetts National Estuarine Research Reserve Management Plan revision.

The Waquoit Bay Reserve revised plan will replace the plan approved in 2006. The revised management plan outlines the administrative structure; the research & monitoring, education, training, and stewardship goals of the reserve; and the plans for future land acquisition and facility development to support reserve operations. The revised management plan will serve as the guiding document for the 2,804 acre Waquoit Bay Reserve for the next five years.

FOR FURTHER INFORMATION CONTACT: Michael Migliori at (301) 563-1126 or Erica Seiden at (301) 563-1172 of NOAA's National Ocean Service, Estuarine Reserves Division, 1305 East-West Highway, N/ORM5, 10th floor, Silver Spring, MD 20910.

SUPPLEMENTARY INFORMATION: Pursuant to 15 CFR 921.33(c), the revised plan meets the reserve's requirements for compliance. The Waquoit Bay Reserve revised plan will replace the plan approved in 2006.

The revised management plan outlines the administrative structure; the research & monitoring, education, training, and stewardship goals of the reserve; and the plans for future land acquisition and facility development to support reserve operations.

The Waquoit Bay, Massachusetts Reserve takes an integrated approach to management, linking research, education, training and stewardship functions to address high priority issues including the impact of climate change on estuarine ecosystems; connections between watershed land-use and water quality; assessment of ecosystem response to natural variability and human impacts; and understanding and enhancing ecosystem services of coastal habitats. Since the last management plan, the reserve implemented its core programs, expanded its monitoring infrastructure to establish a groundwater monitoring program and a Salt Marsh Observatory; enhanced its facilities with energy efficiency installations, campus building improvements, and updated educational exhibits; and furthered land conservation in the reserve's watersheds.

This management plan calls for a boundary expansion of 23 acres. The lands consist of the 11.4 acre Caleb Pond parcel on the northeast corner of Waquoit Bay as well as the addition of 12.4 acres to the Quashnet River lands. The Caleb Pond parcel is the largest single undeveloped parcel on Waquoit Bay and contains an upland coastal pine-oak forest habitat with fringing salt marsh and a connecting stream that contains diadromous fish runs of American eel and has historically supported an anadramous river herring run. The parcel is especially suitable for educational purposes and creates 40 acres of contiguous protected lands across the head of Waquoit Bay. The Quashnet River land parcel expands important contiguous and unfragmented habitat that is valuable as wildlife habitat and corridor as well as increases protection of terrestrial, groundwater, and aquatic systems. This parcel is appropriate for education, recreation, and upland research purposes.

The revised management plan will serve as the guiding document for the 2,804 acre Waquoit Bay Reserve for the next five years. The Waquoit Bay Reserve Management Plan revision can be viewed at (http://www.waquoitbayreserve.org/about/management-plan/). Comments can be provided to the Reserve Manager at james.rassman@state.ma.us.

Dated: May 29, 2014.
Christopher C. Cartwright,
Associate Assistant Administrator for Management and CFO/CAO, Ocean Services and Coastal Zone Management, National Oceanic and Atmospheric Administration.

[FR Doc. 2014-12929 Filed 6-3-14; 8:45 am]

BILLING CODE P